ENVIRONMENTAL PROTECTION AGENCY

[FRL-7486-5]

Comprehensive Environmental Response, Compensation and Liability Act (CERCLA) or Superfund, Section 311(c); Request for Applications (RFA)—Grants

AGENCY: Environmental Protection Agency.

ACTION: Notice.

SUMMARY: On April 22, 2003, the Environmental Protection Agency (EPA) will begin to accept proposals from non-profit organizations and educational institutions for grants to support research on improving meaningful non-Federal stakeholder involvement in decisions concerning the cleanup of hazardous waste at Federal facilities. EPA believes meaningful stakeholder involvement in the cleanup decision making process has resulted in significantly reducing costs, increasing effectiveness, and promoting decisions which reflect the diverse interests of those responsible for or affected by Federal facilities.

DATES: Please submit applications on or before June 23, 2003.

ADDRESSES: U.S. EPA, 1200 Pennsylvania Avenue, NW., Washington, DC 20460 (mailing address); Crystal Gateway (1st Floor), 1235 Jefferson Davis Highway, Arlington, VA 22202 (building address); http://epa.gov/swerffrr/index.htm (Web site address).

FOR FURTHER INFORMATION CONTACT: Sean M. Flynn with EPA's Office of Solid Waste and Emergency Response, Federal Facilities Restoration and Reuse Office: (703) 603-0080 or flynn.sean@epa.gov.

SUPPLEMENTARY INFORMATION: Instructions for Submitting a Proposal (See http://www.epa.gov/ogd/grants/how_to_apply.htm.)

EPA will accept proposals either postmarked or received by EPA via registered or tracked mail by 12 PM (Eastern) on (60 days after date of publication). Copies of Standard Form 424 (SF 424), Application for Federal Assistance may be obtained by following the links to standard forms on the following Web site: http://www.gsa.gov/forms. Applicants should send one (1) original (clearly labeled as such) and five (5) copies of their proposal to Sean M. Flynn, U.S. Environmental Protection Agency, 1200 Pennsylvania Avenue, NW. (5106G), Washington, DC 20460, RE: RFA #03-OSWER-001.

Applicants must clearly mark any information in their proposal that they consider confidential. EPA will make final confidentiality decisions in accordance with Agency regulations found at 40 CFR part 2, subpart B.

Authority: The Comprehensive Environmental Response, Compensation, and Liability Act (CERCLA) section 311(c) authorizes EPA to use appropriated Superfund money to fund research projects for the conduct and dissemination of scientific, socioeconomic, institutional, and public policy related to the effects, risks, and detection of hazardous substances in the environment, including that found on current or former Federal facilities.

As required by statute, all research must relate to hazardous substances. Furthermore, available funding is restricted to “research” as defined at 40 Code of Federal Regulations (CFR) 30.2(dd). EPA has interpreted “research” under CERCLA section 311(c) to include study that extends to socioeconomic, institutional, and public policy issues, as well as the “natural” sciences.

Background: This solicitation is targeted at non-profit organizations and educational institutions interested in researching ways to improve meaningful non-Federal stakeholder participation in the discussion and resolution of issues concerning hazardous waste contamination caused, generated, or managed by Federal agencies and departments. Historically, most of EPA's work in the Federal facilities program has been focused on addressing hazardous waste contamination at DoD and DOE sites on the National Priorities List (NPL) and at Base Realignment and Closure (BRAC) properties. Greater attention, however, is increasingly being given to contamination at other Federal agency/department sites, including properties formerly owned or operated by the Federal government.

In order to promote citizen involvement, EPA's Federal Facilities Restoration and Reuse Office (FFRRO) collaborates with States and tribes, local governments, environmental and community groups, labor organizations, and universities to provide the maximum possible level of stakeholder involvement in decision making and priority setting for the cleanup of Federal facilities. This collaboration is often accomplished via the award of grants and cooperative agreements to outside parties. Such is the purpose of this solicitation.

The research grants resulting from this solicitation will directly benefit non-Federal stakeholders in the Federal facility cleanup process. The research is not meant to directly benefit EPA or other Federal agencies, although EPA and other Federal agencies may derive indirect benefits. Grants, unlike cooperative agreements, provide for little or no involvement on the part of the Federal government. By awarding a grant, EPA does not expect to have any substantial involvement in the research process. Nevertheless, EPA will be in contact with the grant recipients periodically via phone, e-mail, and, as appropriate, site visits.

For Federal fiscal year ‘04, EPA anticipates awarding between one and three grants and will consider funding requests up to a maximum of $150,000 per grant. Furthermore, the anticipated project period is September 2003—August 2004.

Eligibility for Funding: Interested non-profit organizations and educational institutions must structure their research in a way that generates recommendations for use by non-Federal stakeholders, rather than by EPA, DoD, DOE, or another Federal agency or department. Projects which provide services for the direct use or benefit of Federal agencies are not eligible for funding.

The term “non-profit” is defined in U.S. Office of Management and Budget (OMB) Circular A-122, while “educational institution” refers to colleges and universities subject to OMB Circular A-21. Groups of two or more eligible applicants may choose to form a coalition and submit a single application in response to this solicitation. However, one applicant will be accountable to EPA for proper expenditure of funds. Furthermore, any financial transactions between coalition members must comply with 40 CFR part 30.

Per section 501(c)(4) of the Internal Revenue Code, non-profit organizations that engage in lobbying activities—as defined in Section 3 of the Lobbying Disclosure Act of 1995—are not eligible to apply for or be part of a coalition. Non-profit organizations and educational institutions are not required to provide matching funds for grants awarded under section 311(c).

Evaluation of Proposals: EPA will conduct the competition consistent with EPA Order 5700.5, Policy on Competition for Assistance Agreements (9/12/02). EPA will assemble a review panel consisting of members familiar with the Federal facilities program and non-Federal stakeholder involvement in the cleanup process. The review panel will use a point system to rank applications and make recommendations to FFRRO's Office Director, who will then make the final selections.

Successful and unsuccessful applicants will be notified of their award status in writing. Disputes will be resolved in accordance with 40 CFR 30.63. EPA anticipates awarding grants within sixty (60) calendar days of the application deadline.

EPA reserves the right to reject all applications and make no awards.

Proposal Contents: Proposals must be clear and decisive, strictly follow the specified criteria, and provide sufficient detail in order for the panel members to compare the merits of each and decide which proposal best supports the intent of the research. Vague descriptions and unnecessary redundancy may reduce the chance of a favorable rating. Proposals providing the best evidence of a quality project and appropriate use of funds will have the greatest chance of being recommended by the panel. Each proposal must include the following sections, all of which are described in detail further below:

Cover page (1 page)

Overview (1page)

Budget (1 page)

Responses to Threshold Criterion (½ page)

Eligibility

Responses to Evaluation Criteria (up to 12 pages)

Familiarity with Subject Matter

Technical Approach

Past Performance on Other Grants

Leveraging Other Resources

To ensure fair and equitable evaluation of the proposals, do not exceed the single-sided page limitations referenced above. There is no guarantee that pages submitted beyond the limitations will be reviewed by the evaluation panel. In addition, all materials included in the proposal (including attachments) must be printed on letter-sized paper with font sizes no smaller than 12 points. Furthermore, all materials must be printed double-sided on paper with a minimum recycled content of at least 35%.

Cover Page: This page is intended to introduce the applicant and identify a primary point of contact for communication with EPA. The cover page should be a single page and include the following information. Applicants are free to use any format they choose:

• Applicant identification—the name of the main implementor of the project.

• Contact—the name of the person who is responsible for the proposal.

• Mailing address/telephone/fax/e-mail of the point of contact for the proposal.

• Submittal date.

Overview: Briefly summarize your approach to undertaking the necessary research and how you envision the findings will be applied.

Budget: Present a clear and detailed budget for the project. The following budget categories may be useful: salaries, fringe benefits, indirects, other direct, travel, equipment, supplies, printing, administrative, and contracts. EPA defines “equipment” as any item which costs $5,000 or more. Items less than $5,000 are considered supplies. Allowable expenses include direct costs related to the research and any indirect costs authorized under the applicable OMB Circular.

Threshold Criterion: The applicant must satisfy the following threshold criterion in order for the proposal to be considered:

• Eligibility: All applicants must demonstrate that they are either an eligible non-profit organization or an educational institution.

Evaluation Criteria: An applicant's response to each of the following criteria will be the primary basis upon which EPA rates the proposal. The evaluation panel will review each proposal carefully and assess the responses based on how well they address the criteria. A point system will be used to evaluate the proposals. Listed next to the title of each evaluation factor below is the maximum number of points that can be earned for that particular criterion (out of a maximum possible score of 100).

1. Familiarity With Subject Matter (35 Points)

• Describe your experience with environmental cleanups, especially those conducted at Federal facilities (e.g., Former Used Defense Sites (FUDS), BRAC sites, NPL sites).

• Describe your experience with public participation, especially with regard to Federal programs.

• Describe your experience conducting research and disseminating the results.

• What do you consider to be the greatest challenge(s) currently facing the Federal facilities cleanup program, and how would enhanced non-Federal stakeholder involvement better assist the process?

• What do you consider to be “meaningful” stakeholder involvement?

2. Technical Approach (35 Points)

• What, specifically, do you propose to research (e.g., certain issues, certain sites, etc.) and why?

• Describe which research methods you propose to use and why.

• What difficulties do you expect to encounter and how might they be overcome?

• What will be the deliverables/end products?

• How and to whom will the findings be disseminated?

• How do you envision the findings will be applied?

• What measures will you use to determine the success of the project?

• What role will environmental justice play in your research?

3. Past Performance on Other Grants (25 Points)

• Describe your performance history administering grants or cooperative agreements for EPA, other Federal agencies, and/or state/local/tribal regulatory agencies; provide contact information so that the evaluation panel members can obtain additional information as necessary.

• You must also demonstrate satisfactory past performance conducting research; you may include evaluation results from previous projects, as well as letters of commendation.

4. Leveraging Other Resources (5 Points)

• Although EPA does not require cost sharing for CERCLA section 311(c) research proposals submitted in response to a solicitation, describe any plans you have to obtain additional financial or in-kind support for your efforts in performing this research.

Pre-application Assistance: EPA will offer pre-application assistance by answering all questions posted on the following Web site: http://clu-in.org/fracrock/proposal. All questions and answers will be posted.

Terms and Reporting: Grants will include programmatic and administrative terms and conditions. These terms and conditions will describe what is expected from the grant recipient.

The grantee will be required to submit quarterly progress reports. The grantee should only report on activities funded (in whole or in part) via the grant. The narrative should include descriptions of all action items resulting from meetings, site visits, and other activities, as well as milestones achieved and any challenges encountered. The reports should include lists of action items and corresponding milestone dates (e.g., a toolkit to be developed, a letter sent to DoD, or a meeting scheduled to address citizen concerns). In addition, all quarterly reports must be internally reviewed and approved for quality assurance purposes prior to submission. Costs incurred in complying with reporting requirements are an eligible expense under CERCLA section 311(c).

Dated: April 14, 2003.
James E. Woolford,
Director, Federal Facilities Restoration and Reuse Office, Office of Solid Waste and Emergency Response.

[FR Doc. 03-9911 Filed 4-21-03; 8:45 am]

BILLING CODE 6560-50-P